MORRIS K. UDALL AND STEWART L. UDALL FOUNDATION

Sunshine Act Meetings

TIME AND DATE: Electronic meeting of the Executive Committee of the Board of Trustees to be held via telephone Wednesday, September 4, 2013, 3:30 p.m. to 4:30 p.m. (PDT).

PLACE: Executive Committee Meeting held via telephone.

STATUS: This meeting of the Executive Committee of the Board of Trustees, to be held Electronically (in accordance with the Operating Procedures of the Udall Foundation's Board of Trustees), is closed to the public since it is necessary for the Committee to consider items in Executive Session.

MATTERS TO BE CONSIDERED: Discuss and select an organization structure for the Foundation staff and provide the Acting Executive Director with authority to implement the plan, and discuss the process for filling key management positions.

CONTACT PERSON FOR MORE INFORMATION: Philip J. Lemanski, Acting Executive Director, 130 South Scott Avenue, Tucson, AZ 85701, (520) 901-8500.

Dated: August 19, 2013.
Philip J. Lemanski,
Acting Executive Director, Morris K. Udall and Stewart L. Udall Foundation, and Federal Register Liaison Officer.

[FR Doc. 2013-20606 Filed 8-21-13; 11:15 am]

BILLING CODE 6820-FN-M